DEPARTMENT OF TRANSPORTATION

Federal Aviation Administration

14 CFR Part 73

[Docket No. FAA-2017-0144; Airspace Docket No. 17-ASW-2]

RIN-2120-AA66

Establishment of Restricted Areas R-5602A and R-5602B; Fort Sill, OK

AGENCY: Federal Aviation Administration (FAA), DOT.

ACTION: Final rule; correction.

SUMMARY: This action corrects a final rule published in the Federal Register of July 11, 2018, that establishes restricted areas R-5602A and R-5602B, over a portion of the Fort Sill, OK, R-5601 restricted area complex. The restricted areas using agency listed in the rule is corrected to reflect the military unit responsible for ensuring the restricted areas are used for their designated purpose, scheduling the restricted areas, and coordinating the restricted area airspace use with the controlling agency.

DATES: Effective date 0901 UTC, September 13, 2018.

FOR FURTHER INFORMATION CONTACT: Colby Abbott, Airspace Policy Group, Office of Airspace Services, Federal Aviation Administration, 800 Independence Avenue SW, Washington, DC 20591; telephone: (202) 267-8783.

SUPPLEMENTARY INFORMATION:

History

The FAA published a final rule in the Federal Register for Docket No. FAA-2017-0144 (83 FR 32061, July 11, 2018), establishing restricted areas R-5602A and R-5602B over a portion of the Fort Sill, OK, restricted area complex. Subsequent to publication, the FAA identified an editorial error in the using agency information listed in the restricted area legal descriptions. To accurately reflect the using agency responsible for the scheduling, using, and coordinating with the controlling agency, this correction changes the using agency from “U.S. Army, Commanding General, U.S. Army Fires Center of Excellence (USAFCOE) and Fort Sill, Fort Sill, OK” to read “U.S. Army, U.S. Army Fires Center of Excellence (USAFCOE), Fort Sill, OK.”

Correction to Final Rule

Accordingly, pursuant to the authority delegated to me, in the Federal Register of July 11, 2018 (83 FR 32061) FR Doc. 2018-14783, Establishment of Restricted Areas R-5602A and R-5602B; Fort Sill, OK, is corrected as follows:

§ 73.56 [Amended]

R-5602A Fort Sill, OK [Corrected]

On page 32062, column 3, lines 10, 11, 12, and 13, under Using agency, remove the text that reads “U.S. Army, Commanding General, U.S. Army Fires Center of Excellence (USAFCOE) and Fort Sill, Fort Sill, OK.” and add in its place “U.S. Army, U.S. Army Fires Center of Excellence (USAFCOE), Fort Sill, OK.”

R-5602B Fort Sill, OK [Corrected]

On page 32062, column 3, lines 27, 28, 29, and 30, under Using agency, remove the text that reads “U.S. Army, Commanding General, U.S. Army Fires Center of Excellence (USAFCOE) and Fort Sill, Fort Sill, OK.” and add in its place “U.S. Army, U.S. Army Fires Center of Excellence (USAFCOE), Fort Sill, OK.”

Issued in Washington, DC, on July 17, 2018.
Rodger A. Dean Jr.,
Manager, Airspace Policy Group.

[FR Doc. 2018-15737 Filed 7-20-18; 8:45 am]

BILLING CODE 4910-13-P